NATIONAL AERONAUTICS AND SPACE ADMINISTRATION

48 CFR Part 1871

RIN 2700-AD02

Removal of MidRange Procurement Procedures

AGENCY: National Aeronautics and Space Administration.

ACTION: Final rule.

SUMMARY: This final rule revises the NASA FAR Supplement (NFS) by removing Part 1871, MidRange Procurement Procedures. The FAR provides contracting officers with broad discretion and flexibility in the source selection process in order to achieve a best value outcome. A separate NASA MidRange process is no longer necessary.

EFFECTIVE DATE: September 2, 2004.

ADDRESSES: Interested parties may submit comments, identified by RIN number 2700-AD02, via the Federal eRulemaking Portal: http://www.regulations.gov. Follow the instructions for submitting comments. Comments may also be submitted to Celeste Dalton, NASA, Office of Procurement, Contract Management Division (Code HK), Washington, DC 20546. Comments can also be submitted by e-mail to: Celeste.M.Dalton@nasa.gov.

FOR FURTHER INFORMATION CONTACT: Celeste Dalton, NASA, Office of Procurement, Contract Management Division (Code HK); (202) 358-1645; e-mail: Celeste.M.Dalton@nasa.gov.

SUPPLEMENTARY INFORMATION: The Office of Federal Procurement Policy approved a test of NASA's MidRange Procurement Procedures in 1993. The objective of the test was to reduce the leadtime and effort associated with the conduct of acquisitions between $25,000 (the small purchase threshold at that time) and $500,000. OFPP test approval was needed to utilize electronic commerce to publicize and post solicitations along with a waiver to the publicizing/response times required by the FAR. Subsequent changes increased the threshold to $10,000,000 for non-commercial items and $25,000,000 for commercial items. The test portion of MidRange procedures (waiver of publicizing/response times) expired in 1997. The MidRange procedures are no longer unique and all the source selection methodologies under NFS Part 1871, MidRange, are directly traceable to FAR Parts 12, 14, and 15. Therefore, retaining a separate NASA MidRange process is no longer necessary.

A. Regulatory Flexibility Act

Removing Part 1871—Midrange Procurement Procedures does not have an impact beyond the internal operating procedures of NASA. The FAR provides contracting officers with broad discretion and the flexibility in the source selection process needed to achieve a best value outcome. The current Midrange Procurement procedure is now redundant of the flexibilities provided by the FAR. Therefore, this final rule does not constitute a significant revision within the meaning of FAR 1.501 and Public Law 98-577, and publication for public comment is not required. However, NASA will consider comments from small entities concerning the affected NFS Part 1871 in accordance with 5 U.S.C. 610.

B. Paperwork Reduction Act

The Paperwork Reduction Act does not apply because the changes do not impose recordkeeping or information collection requirements which require the approval of the Office of Management and Budget under 44 U.S.C. 3501, et seq.

List of Subjects in 48 CFR Part 1871

Government procurement.

Tom Luedtke,
Assistant Administrator for Procurement.

PART 1871—MIDRANGE PROCUREMENT PROCEDURES

Accordingly, under the authority of The National Aeronautics and Space Act of 1958 (Pub. L. 85-568; 42 U.S.C. 2451 et seq.), remove 48 CFR Part 1871.

[FR Doc. 04-20074 Filed 9-1-04; 8:45 am]

BILLING CODE 7510-01-P